DEPARTMENT OF DEFENSE

Department of the Army

Proposed Change in Acquisition Policy—Satellite Motor Surveillance Service

AGENCY: Headquarters, Military Traffic Management Command, DOD.

ACTION: Notice of intent.

SUMMARY: The Military Traffic Management Command (MTMC) proposes to revise transportation services associated with the Defense Transportation Tracking System (DTTS) by requiring carriers to incorporate any charges for Satellite Motor Surveillance Service (SNS) into the basic linehaul transportation rate for motor freight shipments. This proposed revision applies to the movement of arms, ammunition and explosives (AA&E) shipments.

DATES: The policy proposed by this notice shall be effective no earlier than February 15, 2002. Interested parties are requested to submit comments on this notice. All comments submitted within 60 days of publication of this notice will be carefully considered before a final decision is made on the matter.

ADDRESSES: Comments should be addressed to Headquarters, Military Traffic Management Command, Hoffman Building II, 200 Stovall Street, Room 10S07, Alexandria, VA 22332-5000, ATTN: MT-DAC.

FOR FURTHER INFORMATION CONTACT: Mr. Frank Galluzzo, (703) 428-2327.

SUPPLEMENTARY INFORMATION: The Defense Transportation Tracking System (DTTS) provides satellite tracking of domestic motor shipments while enroute (between origin and destination) and increases security and response capability for AA&E shipments in the event of accident or incident. SNS is a transportation protective service that permits Department of Defense (DOD) to obtain periodic in-transit reports and messages on shipment movements in the DTTS. Since its inception in February 1989, the DTTS has been expanded to cover a large number of shipments involving Security Risk Categorized (CAT) munitions. It is the DOD policy to track all CAT I through IV and Uncategorized Munitions shipments using SNS. Included in these categories are most types of arms, ammunition and explosives shipped by DOD or DOD contractor-sponsored shipments.

On July 6, 1993 MTMC published a Federal Register notice July 6, 1993 (58 FR 36188) stating that motor carriers would be required to include SNS charges for AA&E shipments in their transportation line haul rates, and that SNS charges as an accessorial service would no longer be accepted for these shipments. In response to industry comments MTMC stated in a Federal Register notice on January 3, 1994 (59 FR 75) that charges for SNS would continue to be expressed as a separate accessorial charge and considered along with linehaul rates and other accessorial charges to determine the overall low rate carrier for rating and routing purposes. The primary basis for the MTMC decision to continue separate SNS charges was stated to be that the SNS program objectives for AA&E shipments had not been completely implemented, but that MTMC's policy would continue to be procurement of services and selection of a carrier based on existing criteria.

MTMC has reconsidered the policy of separate SNS charges, and now proposes that SNS accessorial charges be discontinued for AA&E shipments. SNS services would still be required on AA&E shipments. However, in lieu of an accessorial charge, each carrier would include all costs of providing satellite tracking service in the carrier's basic linehaul transportation rate. At one time many munitions shipments did not require SNS service. Transportation Officers ordered SNS as needed, on a shipment-by-shipment basis. Thus, it was not logical or economical to include such charges in the linehaul rate. An agreed stipulation signed in December 1994 by the Munitions Carriers Conference and the United States provided that SNS would be continued at that time as a separate accessorial charge. Thee stipulation also provided that it would not prevent MTMC from making any policy change which it determines to be necessary to protect the public interest or the fiscal and operational requirements of the DOD.

MTMC now proposes to change this policy for AA&E shipments since it is expected to result in operational efficiencies and lower overall transportation costs to the public, thus furthering the public interest and protecting the fiscal requirement of the DOD. Satellite tracking devices are now in universal use by motor carriers. MTMC requires satellite tracking be provided routinely on all DOD motor freight shipments of arms, ammunition and similarly classified commodity categories. There is no longer any reason to maintain a separate accessorial charge for a service that is considered essential to these shipments and can be included in the carriers' basic linehaul rate.

MTMC requirements and standards for SNS and related services can be found at www.mtmc.army.mil in the MTMC Freight Traffic Rules Publication No. 1B dated October 19, 2001.

This proposed policy change applies only to the movement of AA&E shipments. MTMC will continue to maintain an accessorial service in the Freight Traffic Rules Publication No. 1Bb for shippers to order motor surveillance service (SNS) for certain types of shipments which require this type of surveillance. Typically these shipments may include historical and high value articles, one of a kind items or other items of a unique nature that require SNS during the transportation process. SNS for these articles will be ordered by the shipper on a case-by-case basis and only from carriers who provide this service and have a rate on file with MTMC. MTMC will develop and publish a in the Freight Traffic Rules Publication No. 1B an accessorial item for this service.

Luz D. Ortiz,
Army Federal Register Liaison Officer.

[FR Doc. 01-31005 Filed 12-14-01; 8:45 am]

BILLING CODE 3710-08-M